DEPARTMENT OF HEALTH AND HUMAN SERVICES

Centers for Disease Control and Prevention

[30Day-25-25CH]

Agency Forms Undergoing Paperwork Reduction Act Review

In accordance with the Paperwork Reduction Act of 1995, the Centers for Disease Control and Prevention (CDC) has submitted the information collection request titled “Combating Antimicrobial Resistant Gonorrhea and Other STIs (CARGOS)” to the Office of Management and Budget (OMB) for review and approval. CDC previously published a “Proposed Data Collection Submitted for Public Comment and Recommendations” notice on January 8, 2025 to obtain comments from the public and affected agencies. CDC did not receive comments related to the previous notice. This notice serves to allow an additional 30 days for public and affected agency comments.

The CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Combating Antimicrobial Resistant Gonorrhea and Other STIs (CARGOS)—New—National Center for HIV, viral Hepatitis, STD, and Tuberculosis Prevention (NCHHSTP), Centers for Disease Control and Prevention (CDC).

Background and Brief Description

The Centers for Disease Control and Prevention (CDC), as part of its continuing effort to reduce public burden and maximize the utility of government information, invites the general public and other federal agencies the opportunity to comment on a proposed information collection, as required by the Paperwork Reduction Act of 1995. This notice invites comment on an information collection project titled Combating Antimicrobial Resistant Gonorrhea and Other STIs (CARGOS). CARGOS is a comprehensive strategy designed to streamline and improve the coordination of Antimicrobial Resistance (AR) surveillance and preparedness and response activities focused on Neisseria gonorrhoeae (GC), and to expand capacity to include other STIs with emerging AR in the United States.

Data and isolates will be collected at participating clinics. Laboratory, clinical, and demographic data elements associated with each N. gonorrhoeae isolate will be electronically submitted to CDC. Data will be used to guide national recommendations for public health action through surveillance by supporting rapid detection of and response to threats of AR in STIs, monitoring trends in antimicrobial susceptibilities of N. gonorrhoeae strains, and identifying scalable, effective approaches to prevent the spread of AR in the United States. Changes were made to the estimated annualized burden hours, supporting documents, and data collection instruments to ensure compliance with executive orders, federal policies, and agency directives.

CDC requests OMB approval for an estimated 4,749 annual burden hours. There are no costs to respondents other than their time to participate.

Estimated Annualized Burden Hours
Type of respondent | Form name | Number of respondents | Number of responses per respondent | Average burden per response (hours)
Public Health Laboratory Microbiologist | Laboratory Testing Data Elements | 19 | 700 | 10/60
Public Health Laboratory Data Manager | Laboratory Data Elements | 19 | 12 | 1
Jurisdictional CARGOS Data Manager and Epidemiologist | Clinic Facility Data Elements | 19 | 12 | 8
Gonorrhea Patients with Gonorrhea and Sexual Contacts | Alert Field Investigation Data Elements | 960 | 1 | 30/60

Jeffrey M. Zirger,
Lead, Information Collection Review Office, Office of Public Health Ethics and Regulations, Office of Science, Centers for Disease Control and Prevention.

[FR Doc. 2025-14772 Filed 8-4-25; 8:45 am]

BILLING CODE 4163-18-P